ENVIRONMENTAL PROTECTION AGENCY

40 CFR Part 52

[EPA-R08-OAR-2020-0114; FRL-10019-22-Region 8]

Approval and Promulgation of Implementation Plans; Colorado; Revisions to Regulation Number 7 and RACT Requirements for 2008 8-Hour Ozone Standard for the Denver Metro/North Front Range Nonattainment Area

AGENCY: Environmental Protection Agency (EPA).

ACTION: Final rule.

SUMMARY: The Environmental Protection Agency (EPA) is approving and conditionally approving State Implementation Plan (SIP) revisions submitted by the State of Colorado on May 31, 2017, May 14, 2018 and May 8, 2019. The revisions are to Colorado Air Quality Control Commission (Commission or AQCC) Regulation Number 7 (Reg. 7). The revisions to Reg. 7 address Colorado's reasonably available control technology (RACT) SIP obligations for Moderate 2008 ozone nonattainment areas; add incorporation by reference dates to rules and reference methods; and make typographical, grammatical, and formatting corrections. Also, in this action the EPA is correcting a July 3, 2018 final rule pertaining to Colorado's SIP. In that action, we inadvertently omitted regulatory text corresponding to “incorporation by reference” (IBR) materials for graphic arts and printing revisions to Reg. 7, Section XIII (adopted November 17, 2016). The EPA is taking this action pursuant to the Clean Air Act (CAA).

DATES: This rule is effective on March 26, 2021.

ADDRESSES: The EPA has established a docket for this action under Docket ID No. EPA-R08-OAR-2020-0114. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Abby Fulton, Air and Radiation Division, EPA, Region 8, Mailcode 8ARD-IO, 1595 Wynkoop Street, Denver, Colorado 80202-1129, (303) 312-6563, fulton.abby@epa.gov.

SUPPLEMENTARY INFORMATION: Throughout this document “we,” “us,” and “our” means the EPA. In our October 6, 2020 proposal for this action (85 FR 63066) we inadvertently referred to the May 8, 2019 submittals as May 10, 2019 submittals. The cover letters to these submittals are dated May 10, but they were actually received by EPA on the 8th.

I. Background

The background for this action is discussed in detail in our October 6, 2020 proposal (85 FR 63066). In that document we proposed to approve various revisions to the Colorado SIP that were submitted to the EPA on May 31, 2017, May 14, 2018 and May 8, 2019. In particular, we proposed to approve certain area source rules to meet the 2008 8-hour ozone national ambient air quality standards (NAAQS) RACT requirements for Moderate nonattainment areas that were not acted on in our July 3, 2018 rulemaking approving the State's attainment demonstration and various SIP elements.¹ We also proposed to approve into the SIP the submitted revisions to Colorado's Reg. 7 that we have not previously acted on, except for Sections XII and XVIII (from the May 2018 submittal) and Sections XVI.D.4.b.(i) and XVI.D.4.d. (from the two May 2019 submittals), which we will be acting on at a later date (see Tables 4 and 5 of the preamble to the proposed rule). Finally, we proposed to approve IBR material that was submitted in May 2017 but inadvertently excluded from our July 3, 2018 action. The factual and legal background for this action is discussed in detail in our October 6, 2020 proposed approval. The proposal provides a detailed description of the revisions and the rationale for EPA's proposed actions. We did not receive any comments on the proposal.

¹ See Final Rule, Approval and Promulgation of State Implementation Plan Revisions; Colorado; Attainment Demonstration for the 2008 8-Hour Ozone Standard for the Denver Metro/North Front Range Nonattainment Area, and Approval of Related Revisions, 83 FR 31068, 31069-31072.

II. Final Action

The EPA is approving submitted revisions to Sections I, II, III, V, VI, VII ², VIII, IX, X, XI, XIII, XIV, XV, XVI, XVII, XIX and XX of Reg. 7 from the State's May 31, 2017, May 14, 2018 and May 8, 2019 submittals as shown in Table 1, except for those revisions we are not acting on as represented in Table 2. We are approving Colorado's determination that the above rules constitute RACT for the specific categories addressed in Tables 3 and 4, except for the aerospace category, which we are conditionally approving. We are also finding that for VOC RACT requirements at major non-CTG VOC sources, Colorado has RACT-level controls in place for the DMNFR Area under the 2008 8-hour ozone standard. We are not finalizing our RACT determination for major sources of NOX in this document because there are certain NOX source categories as to which we have not yet determined that the State has met RACT requirements. We will be addressing those categories and requirements in a future action 3 4.

² Our October 6 proposal incorrectly stated at one point that one of the State's May 8, 2019 SIP submittals contained revisions to Reg. 7, Section VII. See 85 FR at 63074. In fact, neither of the State's submittals on that date involved revisions to Section VII. A correct and complete list of the affected provisions appears at Table 4 of our October 6 proposal, and in Table 1 of this final rule.

³ Rules in this column were struck from Colorado's regulation number 7 in the May 8, 2019 submittal—RACT for brewing related activities and wood furniture surface coating operations. Because these rules were not approved into the SIP from previous submittals, there is no action for EPA to take remove them from the SIP.

⁴ See Colorado's August 4, 2020 letter committing to submit to EPA a negative declaration certifying that there are no sources in the DMNFR Area above the aerospace CTG applicability threshold (contained within the docket). The EPA is conditionally approving Colorado's determination that there are no sources in the DMNFR Area subject to the aerospace CTG and therefore RACT is satisfied for this category. If we finalize our proposed conditional approval, Colorado must submit the negative declaration, after state notice and public hearing, to EPA within one year of our finalization of the conditional approval. If Colorado does not submit the negative declaration within one year, or if we find Colorado's revisions to be incomplete, or we disapprove Colorado's revisions, this conditional approval will convert to a disapproval. If any of these occur and our conditional approval converts to a disapproval, that will constitute a disapproval of a required plan element under part D of title I of the Act, which starts an 18-month clock for sanctions, see CAA section 179(a)(2), and the two-year clock for a federal implementation plan, see CAA section 110(c)(1)(B).

Table 1—List of Colorado Revisions to Reg. 7 That the EPA is Approving
Revised sections in May 31, 2017, May 14, 2018 and May 8, 2019 submittals for approval
May 31, 2017 submittal:
X., X.A.1, X.A.2.b.-j., X.B.1.d.(ii), X.D.1.a.(i), X.E., X.E.1., X.E.1.a.-c., X.E.2., X.E.2.a.-c., X.E.3., X.E.3.a., X.E.3.a.(i)-(iv), X.E.3.b., X.E.3.b.(i)-(iii), X.E.3.b.(iii)(A)-(B), X.E.4., X.E.4.b., X.E.4.b.(i)-(xi), X.E.4.c., X.E.4.c.(i)-(ii), XVI.D., XVI.D.2., XVI.D.2.a.-f.(ii), XVI.D.4., XVI.D.4.a.-b., XIX., XIX.D., XIX.D.1-12., XIX.F. and G.
May 14, 2018 submittal:
I.A.1.c., I.B.1.c., I.B.2.c., I.B.2.e., I.B.2.g., I.B.2.h., II.A.9., II.A.10., II.D.2., III.C., V.B., VI.B.1.a., VI.B.1.b., VI.B.2.a.(i)(C), VI.B.2.a.(i)(E), VI.B.2.a.(iii)(B), VI.B.2.a.(iii)(C), VI.B.2.c.(i)(B)(1), VI.B.2.c.(i)(B)(2), VI.B.2.c.(ii)(B), VI.B.2.c.(ii)(B)(1), VI.B.2.c.(ii)(C)(2), VI.B.2.c.(iii)(A), VI.B.2.c.(iii)(B)(1), VI.B.3.a.. VI.B.3.b., VI.B.3.b.(i), VI.B.3.h., VI.C.1., VI.C.2.a., VI.C.2.b., VI.C.2.c., VI.C.3.a.-c., VI.C.3.c.(iii), VI.C.3.d.-f., VI.D.1.a.-b., VI.D.2.a., VI.D.2.a.(i)-(ii), VI.D.2.a.(ii)(A)-(C), VI.D.2.b.(i), VI.D.2.b.(ii)(B), VI.D.3.a., VI.D.3.b., VI.D.4.a.-VI.D.4.c., VI.D.4.c.(ii), VI.D.4.d.(i), VI.D.4.d.(iv), VI.D.4.e., VII.A.2., VII.B.-C., VIII.A.2.a.(i)-(iii), VIII.A.2.a.(iii)(A), VIII.B.6., VIII.C.1., VIII.C.1.b., VIII.C.2.a.(i)-(v), VIII.C.2.a.(vi)(A)-(B), VIII.C.2.c.(iii), VIII.C.4.a.(i)(A), VIII.C.4.a.(i)(A)(6), VIII.C.4.a.(i)(B), VIII.C.4.a.(i)(E), VIII.C.4.a.(ii)-(iii), VIII.C.4.b.(i)(J), VIII.C.4.c.(ii), IX.A.3.c.-e., IX.A.5., IX.A.5.a.-d., IX.A.5.e., IX.A.6.a.-b., IX.A.8.b., IX.A.9.a.(1), IX.A.10.b., IX.A.11., IX.A.12.a., IX.A.12.a.(iv), IX.A.12.a.(vi), IX.A.12.a.(ix), IX.A.12.a.(x), IX.B.2., 4., 5., IX.C.2., IX.D.2., IX.E.2., IX.F.2., IX.G.2., IX.H.1.b., IX.H.2., IX.I.2., IX.J.1.a., IX.J.2., IX.K.1., IX.K.2., IX.L.1.a., IX.L.1.b.(i)-(ii), IX.L.1.c., IX.L.2.a.-c., IX.L.2.c.(iii)-(vi), IX.M.2., IX.M.3.a., IX.N.3.a.(i)(A), IX.N.4.a.(ii), IX.N.5.-6., X.A.5., X.B.1.d.(ii), X.C.1.c.(i), X.C.2.d., X.E.3.b.(i), X.E.4.a.(i), XI.A.1., XI.B.3., XI.C., XIII.A.1.a, XIII.A.3.a.(iii), XIII.A.3.a.(v)-(vi), XIII.A.3.c.-d., XIII.A.4., XIII.B.5.a.-b., XIII.B.5.c., XIV.C.1., XV.B.1.d., XV.B.2.a., XVI.C., XVI.C.1., XVI.C.3.-4., XVII.E.3.a.(i), XVII.E.3.a.(i)(A)-(C).
May 8, 2019 submittal—RACT for combustion sources:
XVI., XVI.D., XVI.D.1.-XVI.D.4.a.(ii), XVI.4.b.(ii)-(iii), XVI.D.4.c., XVI.D.4.e.-XVI.D.5.a.(iv), XVI.D.6. (renumbering), XVI.D.6.a., XVI.D.6.b.-XVI.D.6.b.(vi)(B) (renumbering), XVI.D.6.c., XVI.D.6.c.(i)-(ii) (renumbering), XVI.D.7.-XVI.D.8.b.(i), XIX.A. (renumbering).
May 8, 2019 submittal—RACT for brewing related activities and wood furniture surface coating operations:
I.B.2.f.-g., I.E., II.A.17., VI.B.2.a.(i)(D), VI.B.3.i., VI.C.2.d.-e., VI.D.3.c., VI.D.4.d.(v), VIII.A.2.a.(iii)(B), VIII.B.7., VIII.C.3., IX.A.1., IX.A.3.a., IX.A.9.a.(i)-(ii), IX.A.10.b., IX.A.11., IX.L.2.c.(vi), IX.N.7., IX.O.-IX.O.5.a.(v), X.D.2.a., X.E.3.b.(iii)(A)-(B), X.E.4.a., X.E.4.c.-(ii), XIII.B.5.c.(iii)(A)-(B), XV.B.1.b., XVI.D.6.b.(vi)(A), XVI.D.6.c.(ii), XVI.D.7.f.(iii), XVII.E.3.a.(i)(B), XIX.B.-C. (renumbering), XX.-XX.A.7.c.

Table 2—List of Colorado Revisions to Reg. 7 That EPA is Taking No Action On
Revised section | Reason for proposed “No Action”: Superseded by May 8, 2019 submittal | Reason for proposed “No Action”: Revision to be made in future rulemaking | Reason for proposed “No Action”: Revision never approved into the SIP ³
May 31, 2017 submittal:
X.E.4.a. | X |  |
X.E.4.a.(i)-(ii) | X |  |
XVI.D.1. | X |  |
XVI.D.1.A.-e. | X |  |
XVI.D.3. | X |  |
XVI.D.3.a.-c. | X |  |
XV.I.D.4.c. | X |  |
XIX.A.-C. | X |  |
XIX.E. | X |  |
May 14, 2018 submittal:
II.B. |  | X |
Section XII |  | X |
XVI.D.2.a.(iv) | X |  |
XVI.D.3.a.(ii)-(iii) | X |  |
XVI.D.4. | X |  |
Section XVIII |  | X |
May 8, 2019 submittal—RACT for combustion sources:
XVI.D.4.b.(i) |  | X |
XVI.D.4.d. |  | X |
May 8, 2019 submittal—RACT for brewing related activities and wood furniture surface coating operations:
X.E.4.a.(i)-(ii) |  |  | X
Section XII |  | X |
Section XVIII |  | X |
XIX.B. (Elkay Wood Products) |  |  | X

Table 3—Source Categories, EPA CTG Reference Documents, and Corresponding Sections of Reg. 7 Fulfilling RACT
Source category in DMNFR area | CTG reference document | Date of CTG | Reg. 7 sections fulfilling RACT
Metal Furniture Coatings | Control Techniques Guidelines for Metal Furniture Coatings | 2007 | Sections V and IX.
Wood Furniture Manufacturing Operations | Control of Volatile Organic Compound Emissions from Wood Furniture Manufacturing Operations | 1996 | Sections V and IX.O.
Industrial Cleaning Solvents | Control Techniques Guidelines for Industrial Cleaning Solvents | 2006 | Sections V and X.
Aerospace ⁴ | Control of Volatile Organic Compound Emissions from Coating Operations at Aerospace Manufacturing and Rework Operations | 1997 | No sources above the CTG applicability threshold in the DMNFR Area (negative declaration conditional approval in this action).

Table 4—Source Categories and Corresponding Sections of Reg. 7 Fulfilling RACT
[Combustion equipment located at non-CTG major NOX sources]
Source category in the DMNFR Area | Reg. 7 sections fulfilling RACT
Stationary Internal Combustion Engines | Applicable provisions in XVI.D. and XIX.A.
Commercial & Institutional Boilers | Applicable provisions in XVI.D.
Stationary Combustion Turbines | Applicable provisions in XVI.D. (proposed for approval in this action, except XVI.D.4.b.(i) which will be acted on at a later date).
Utility Boilers | Applicable provisions in XVI.D. (proposed for approval in this action).

III. Incorporation by Reference

In this document, the EPA is finalizing regulatory text that includes incorporation by reference. In accordance with requirements of 1 CFR 51.5, the EPA is finalizing the incorporation by reference of Colorado Regulation Number 7 pertaining to regulation of sources of VOC and NOX emissions, except that we are not acting on Reg. 7, Sections II.B., XII, XVI.D.4.b.(i), XVI.D.4.d., and XVIII in this action.⁵ Therefore, these materials have been approved by the EPA for inclusion in the State implementation plan, have been incorporated by reference by the EPA into that plan, are fully federally enforceable under sections 110 and 113 of the CAA as of the effective date of the final rulemaking of the EPA's approval, and will be incorporated by reference by the Director of the Federal Register in the next update to the SIP compilation.⁶ The EPA has made, and will continue to make, these materials generally available through www.regulations.gov and at the EPA Region 8 Office (please contact the person identified in the FOR FURTHER INFORMATION CONTACT section of this preamble for more information). Therefore, these materials have been approved by the EPA for inclusion in the SIP, have been incorporated by reference by the EPA into that plan, are fully federally enforceable under sections 110 and 113 of the CAA as of the effective date of the final rulemaking of the EPA's approval, and will be incorporated by reference in the next update to the SIP compilation.⁷

⁵ See section VI (EPA's Evaluation of SIP Control Measures in Reg. 7) of our October 6 proposed rule for additional discussion. 85 FR at 63072.

⁶ 62 FR 27968 (May 22, 1997).

⁷ 62 FR 27968 (May 22, 1997).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 26, 2021. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Dated: February 11, 2021.
Debra Thomas,
Acting Regional Administrator, Region 8.

40 CFR part 52 is amended as follows:

PART 52—APPROVAL AND PROMULGATION OF IMPLEMENTATION PLANS

1. The authority citation for part 52 continues to read as follows:

Authority: 42 U.S.C. 7401 et seq.

Subpart G—Colorado

2. In § 52.320, the table in paragraph (c) is amended by:

a. Revising the center heading “5 CCR 1001-09, Regulation Number 7, Control of Ozone Via Ozone Precursors (Emissions of Volatile Organic Compounds and Nitrogen Oxides)”; and

b. Under the newly revised center heading by:

i. Revising entries I through III, V through XI, and XIII through XVI;

ii. Removing the entry for XVII.E.3.a and adding in its place an entry for XVII; and

iii. Adding entries in numerical order for XIX and XX.

The revisions and additions read as follows:

§ 52.320 Identification of plan.

* * * * *

(c) * * *

Title | State effective date | EPA effective date | Final rule citation/date | Comments
* * * * * * *
5 CCR 1001-09, Regulation Number 7, Control of Ozone Via Ozone Precursors and Hydrocarbons via Oil and Gas Emissions, (Emissions of Volatile Organic Compounds and Nitrogen Oxides)
I. Applicability | 1/14/2019 | 3/26/2021 | [insert Federal Register citation], 2/24/2021 | Previous SIP approval 08/05/11 except for I.A.1.b, I.B.1.b, I.B.2.b, and I.B.2.d; nonsubstantive changes to I.A.1.a. and I.A.1.c. approved 7/3/2018; nonsubstantive changes Approved 2/24/2021.
II. General Provisions | 1/14/2019 | 3/26/2021 | [insert Federal Register citation], 2/24/2021 | Previous SIP approval 8/5/2011 except for II.A.12, II.C.1, and the repeal of previously approved II.D; nonsubstantive changes to II.D approved 7/3/2018; nonsubstantive changes approved 2/24/2021.
III. General Requirements for Storage and Transfer of Volatile Organic Compounds | 12/30/2017 | 3/26/2021 | [insert Federal Register citation], 2/24/2021 | Previous SIP approval 8/5/2011. nonsubstantive changes approved 2/24/2021.
* * * * * * *
V. Disposal of Volatile Organic Compounds | 12/30/2017 | 3/26/2021 | [insert Federal Register citation], 2/24/2021 | Previous SIP approval 8/5/2011. nonsubstantive changes approved 2/24/2021.
VI. Storage and Transfer of Petroleum Liquid | 1/14/2019 | 3/26/2021 | [insert Federal Register citation], 2/24/2021 | Previous SIP approval 8/5/2011; nonsubstantive changes to VI.B.2.a.(iii)(B) approved 7/3/2018; nonsubstantive changes approved 2/24/2021.
VII. Crude Oil | 12/30/2017 | 3/26/2021 | [insert Federal Register citation], 2/24/2021 | Previous SIP approval 8/5/2011; nonsubstantive changes to VII.C 7/3/2018; nonsubtantive changes approved 2/24/2021.
VIII. Petroleum Processing and Refining | 1/14/2019 | 3/26/2021 | [insert Federal Register citation], 2/24/2021 | Previous SIP approval 8/5/2011; nonsubstantive changes to VIII.C.4.a.(i)(A)(6) 7/3/2018; nonsubstantive changes approved 2/24/2021.
IX. Surface Coating Operations | 1/14/2019 | 3/26/2021 | [insert Federal Register citation], 2/24/2021 | Previous SIP approval 8/5/2011; nonsubstantive changes to IX.A.3.c., IX.A.5.a.-d., and IX.A.12.a. approved 7/3/2018; substantive changes approved 2/24/2021.
X. Use of Cleaning Solvents | 1/14/2019 | 3/26/2021 | [insert Federal Register citation], 2/24/2021 | Previous SIP approval 8/5/2011; substantive changes approved 2/24/2021.
XI. Use of Cutback Asphalt | 12/30/2017 | 3/26/2021 | [insert Federal Register citation], 2/24/2021 | Previous SIP approval 8/5/2011; nonsubstantive changes approved 2/24/2021.
* * * * * * *
XIII. Graphic Arts and Printing | 1/14/2019 | 3/26/2021 | [insert Federal Register citation], 2/24/2021 | Previous SIP approval 8/5/2011; Substantive changes made in 7/3/2018 rulemaking; IBR correction approved 2/24/2021.
XIV. Pharmaceutical Synthesis | 12/30/2017 | 3/26/2021 | [insert Federal Register citation], 2/24/2021 | Previous SIP approval 8/5/2011; nonsubstantive changes approved 2/24/2021.
XV. Control of Volatile Organic Compound Leaks from Vapor Collection Systems and Vapor Control Systems Located at Gasoline Terminals, Gasoline Bulk Plants, and Gasoline Dispensing Facilities | 1/14/2019 | 3/26/2021 | [insert Federal Register citation], 2/24/2021 | Previous SIP approval 8/5/2011; nonsubstantive changes approved 2/24/2021.
XVI. Control of Emissions from Stationary and Portable Engines and Other Combustion Equipment in the 8-Hour Ozone Control Area | 1/14/2019 | 3/26/2021 | [insert Federal Register citation], 2/24/2021 | Previous SIP approval 8/19/2005; nonsubstantive changes to sections XVI.A.-C. 7/3/2018; substantive changes approved 2/24/2021, except sections XVI.D.4.b.(i) and XVI.D.4.d.
XVII. (Regional Haze SIP) Rich Burn Reciprocating Internal Combustion Engines | 1/14/2019 | 3/26/2021 | [insert Federal Register citation], 2/24/2021 | Only section XVII.E.3.a. from the Regional Haze SIP approved in SIP. Previous SIP approval 12/31/2012; nonsubstantive changes approved 2/24/2021.
XIX. Control of Emissions from Specific Major Sources of VOC and/or NOX in the 8-Hour Ozone Control Area | 1/14/2019 | 3/26/2021 | [insert Federal Register citation], 2/24/2021 | New section approved in SIP 2/24/2021.
XX. Control of Emissions from Breweries in the 8-Hour Ozone Control Area | 1/14/2019 | 3/26/2021 | [insert Federal Register citation], 2/24/2021 | New section approved in SIP 2/24/2021.
* * * * * * *

* * * * *

[FR Doc. 2021-03278 Filed 2-23-21; 8:45 am]

BILLING CODE 6560-50-P